DEPARTMENT OF ENERGY

Federal Energy Regulatory Commission

[Project No. 14066-000]

Inside Passage Electric Cooperative

Notice of Preliminary Permit Application Accepted for Filing and Soliciting Comments, Motions To Intervene, and Competing Applications

On January 20, 2011, and supplemented on May 18, 2011, the Inside Passage Electric Cooperative filed an application for a preliminary permit, pursuant to section 4(f) of the Federal Power Act (FPA), proposing to study the feasibility of the Gartina Falls Hydroelectric Project (Gartina Falls Project) to be located on Gartina Creek, near Hoonah, Alaska. The sole purpose of a preliminary permit is to grant the permit holder priority to file a license application during the permit term. A preliminary permit does not authorize the permit holder to perform any land-disturbing activities or otherwise enter upon lands or waters owned by others without the owners' express permission.

The proposed run-of-river project consist of the following new facilities: (1) A 40-foot-wide, approximately 126-foot-long, 15-foot-high concrete diversion structure with an inflatable gate at the head of Gartina Falls; (2) a 20-foot-wide 40-foot-long concrete intake structure; (3) an 8-foot-wide, 40-foot-long sluiceway on the left abutment of the diversion dam; (4) an approximately 54-inch-diameter, 200-foot-long, steel penstock that would convey water from the diversion dam to the powerhouse; (5) a 15-foot-wide and 10-foot-long, rock-lined tailrace; (6) a powerhouse containing a single 600-kilowatt turbine/generator unit; (7) a small switchyard located adjacent to the powerhouse; (8) an approximately 4-mile-long, 12.5-kilovolt transmission line connecting the project switchyard to an interconnection near Hoonah airport; (9) an approximately 0.3-mile-long access road; and (10) appurtenant facilities. The estimated annual generation output for the project is 1.8 gigawatt-hours.

Applicant Contact: Mr. Peter A. Bibb, Operations Manager, Inside Passage Electric Cooperative, P.O. Box 210149, 12480 Mendenhall Loop Road, Auke Bay, AK 99821, Phone (907) 789-3196.

FERC Contact: Patrick Murphy; phone: (202) 502-8755. Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14066-000) in the docket number field to access the document. For assistance, contact FERC Online Support.

Dated: June 7, 2011.
Kimberly D. Bose,
Secretary.

[FR Doc. 2011-14630 Filed 6-13-11; 8:45 am]

BILLING CODE 6717-01-P